DEPARTMENT OF COMMERCE

National Oceanic and Atmosphere Administration

[I.D. 050806C]

Magnuson-Stenves Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator) has made a preliminary determination that the subject exempted fishing permit (EEP) application contains all the required information and warrants further consideration. The EEP, which would enable researchers to investigate the feasibility of using a raised footnote trawl to catch haddock and pollock while limiting cod and flounder by catch, would allow for exemptions from the FMP as follows: Gulf of Maine (GOM) Rolling Closure Areas II and IV; and the minimum mesh size for trawl gear. The Assistant Regional Administrator has also made a preliminary determination that the activities authorized under the EFP would be consistent with the goals and objectives of the Northeast (NE) Multispecies Fishery Management Plan (FMP). However, further review and consultation may be necessary before a final determinations is made to issue the EFP. Therefore, NMFS announces that the Assistant Regional Administrator proposes to recommend that an EFP is issued that would allow two commercial fishing vessels to conduct fishing operations that are otherwise restricted by the regulations governing the fisheries of the Northeastern United States.

Regulations under the Magnuson-Stevens Fishery Conservation and Management Act require publication of this notification to provide interested parties the opportunity to comment on applications for proposed EFPs.

DATES: Comments must be received on or before May 26, 2006.

ADDRESSES: Written comments should be sent to Patrick A. Kurkul, Regional Administrator, NMFS, Northeast Regional Office, 1 Blackburn Drive, Gloucester, MA 01930. Mark the outside of the envelope “Comments on the GOM High Opening Raised Footrope Trawl for Haddock and Pollock.” Comments may also be sent via fax to (978) 281-9135, or be submitted via e-mail to the following address: DAG-091@noaa.gov.

FOR FURTHER INFORMATION CONTACT: Mark Grant, Fishery Management Specialist, phone 978-281-9273.

SUPPLEMENTARY INFORMATION: A complete application for an EFP was submitted on April 11, 206, by Dr. Pingguo He of the University of New Hampshire (UNH) for a Northeast Consortium contract project. The primary goal of the research is to design and test a high opening haddock raised footrope trawl for potential use in the Regulator B Days-at-Sea (DAS) program in the GOM.

The proposed work is the second year of a two-year project. Year one included flume tank tails and at-sea trails by one vessel to test net configurations. During the second year of the project, two vessels, the F/V North Star (Federal permit number 270699) and the F/V Persistence (Federal permit number 230290), would be involved in the at-sea research. During the first year, researches were unable to complete all 10 days of the at-sea trails authorized by a previous EFP. For this year's EFP, the researchers have requested that one vessel be exempted from Rolling Closure Areas III and IV, and the minimum mesh size requirements for the GOM RMA under this EFP for up to seven DAS during the 2006 fishing year in order to complete those trails. Subsequent to these trails, two vessels would engage in side-by-side trawling using 12 DAS each. One vessel would use the experimental net and the other would use a regulation commercial net as a control. All trails would occur in the area north of 42°50′ N. lat., and wet of 69°00′W. long. in inshore waters of the GOM, excluding the Western GOM Closure Area. Researchers have asked for an exemption to the regulations at § 648.81(f)(1)(iii) and (iv), establishing GOM Rolling Closure Areas III and IV, for both vessels because they believe that an optimum mixture of haddock, pollock, cod, and flounder will be present in the waters of the Western GOM during May and June to test the experimental gear. Because the aim of the project is to develop gear that could separate haddock and pollock from cod and flounder before the fish are brought onboard, an exemption from GOM Rolling Closures III and IV is important to the success of the study. Researchers have also requested an exemption from the minimum mesh size requirement for the GOM Regulated Mesh Area (RMS) at § 648.809(a)(3)(i) for seven DAS. During these seven DAS, net configuration trails will be conducted. Use of a small mesh cod end, or liner, is necessary to collect fish released from the trawl in order to quantify the effect o the separator trawl and make effective comparisons of the net configurations tested.

Net configuration trails would consist of a maximum of four 1-hour tows per DAS. Side-by-side trawling trails would consist of a maximum of four 2-hour tows by each vessel per DAS. Additionally, researchers would use remote underwater video observation and acoustic gear geometry monitoring to assess the success of the net during the at-sea trials. The design of the net would consist of long drop-chains hanging between the fishing ling and the sweep (raised footrope), creating a space for cod, flounders, and other benthic animals to escape or fall under the fishing line while the vessel targets primarily haddock and pollock. The trawl would incorporate large meshes in the wings and belly, and kites in the square near the headline. Kites may also be used near the ends of the wings to expand the trawl.

The weight of all haddock, pollock, cod, and flounder will be determined for each control and experimental tow. If available, 70 of each major groundfish species, both legal and sub-legal sizes, would be measured from alternating control and experimental tows. The overall fishing mortality for the experimental net is estimated to be 30 percent of the average commercial fishing mortality on a DAS due to both the species-selective design of the net and the reduced amount of time spent towing each day. The overall fishing mortality for the commercial net is estimated to be 50 percent of the average commercial fishing mortality on a DAS due to the reduced amount of time spent towing each day. The researcher anticipates that a total of 18,978 lb (8,608 kg) of fish, including 6,612 lb (2,999 kg) of cod, would be sacrificed throughout the course of the study (see Tables 1 and 2 below). All research would be conducted using A DAS, even though daily fishing mortality is estimated to be less than 50 percent of commercial fishing mortality.

Table 1.—Net Configuration Testing Mortality Estimates
Species | Experimental trawl: lb | Experimental trawl: kg
Cod | 1,812 | 822
Haddock | 22 | 10
Dab | 175 | 79
Yellowtail | 55 | 25
Blackback | 32 | 15
Grey sole | 985 | 447
Hake | 90 | 41
Pollock | 6 | 3

Table 2.—Side-by-Side Trawling Mortality Estimates
Species | Experimental trawl: lb | Experimental trawl: kg | Commercial trawl: lb | Commercial trawl: kg
Cod | 1,200 | 544 | 3,600 | 1,633
Haddock | 2,400 | 1,089 | 1,200 | 544
Dab | 60 | 27 | 600 | 272
Yellowtail | 60 | 27 | 600 | 272
Blackback | 60 | 27 | 600 | 272
Grey sole | 60 | 27 | 600 | 272
Hake | 200 | 91 | 200 | 91
Pollock | 2,400 | 1,089 | 1,200 | 544

Authority: 16 U.S.C. 1801 et seq.

Dated: May 8, 2006.
James P. Burgess,
Acting Director, Office of Sustainable Fisheries, National Marine Fisheries Service.

[FR Doc. 06-4414 Filed 5-10-06; 8:45am]

BILLING CODE 3510-22-M